DEPARTMENT OF COMMERCE

National Oceanic and Atmospheric Administration

[RTID 0648-XF027]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued under the Marine Mammal Protection Act (MMPA) and the Endangered Species Act (ESA), as applicable.

ADDRESSES: The permits and related documents are available for review upon written request via email to NMFS.Pr1Comments@noaa.gov.

FOR FURTHER INFORMATION CONTACT: Shasta McClenahan, Ph.D., (File Nos. 26663, 28847 and 28860), Courtney Smith, Ph.D. (File No. 28850), and Erin Markin, Ph.D., (File Nos. 24016, 28617, and 28803); at (301) 427-8401.

SUPPLEMENTARY INFORMATION: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable. Notices were published in the Federal Register on the dates listed below that requests for a permit, permit amendment, or permit modification had been submitted by the below-named applicants. To locate the Federal Register notice that announced our receipt of the application and a complete description of the activities, go to https://www.federalregister.gov and search for the file number provided in table 1 below.

Table 1—Issued Permits, Permit Amendments, and Permit Modifications
File No. | Version No. | RTID | Applicant | Previous Federal Register notice | Issuance date
24016 | 02 | 0648-XE712 | Jason Kahn, Ph.D., NMFS, 1315 East West Highway, Silver Spring, MD 20910 | 90 FR 22062, May 23, 2025 | July 7, 2025.
26663 | 02 | 0648-XE738 | Alaska Whale Foundation, P.O. Box 1927, Petersburg, AK 99833 (Responsible Party: Andy Szabo, Ph.D.) | 91 FR 20283, May 13, 2025 | July 1, 2025.
28617 | N/A | 0648-XE822 | Matthew Balazik, Ph.D., U.S. Army Corps of Engineers, 251 John Tyler Memorial Highways, Henrico, VA 23231 | 90 FR 15563, April 14, 2025 | July 1, 2025.
28727 | N/A | 0648-XE711 | Amandine Gamble, Ph.D., Cornell University, 606 Tower Road, Ithaca, NY 14853 | 90 FR 14247, March 31, 2025 | July 8, 2025.
28803 | N/A | 0648-XE709 | Jacob Steinberg, CosmoVision Media Group, 64 Kenilworth Drive East, Stamford, CT 06902 | 90 FR 15709, April 15, 2025 | June 25, 2025.
28847 | N/A | 0648-XE869 | Allyson Hindle, Ph.D., University of Nevada Las Vegas, 4505 South Maryland Parkway, Las Vegas, NV 89154 | 90 FR 20626, May 15, 2025 | June 25, 2025.
28850 | N/A | 0648-XE718 | Cascadia Research Collective, 218½ West Fourth Avenue, Olympia, WA 98501 (Responsible Party: John Calambokidis) | 90 FR 17779, April 29, 2025 | June 27, 2025.
28860 | N/A | 0648-XE837 | British Broadcasting Corporation (BBC) Natural History and Factual Productions Ltd. and BBC Studios Americas Inc., Bridgewater House, Counterslip, Redcliffe, Bristol, BS1 6BX, United Kingdom (Responsible Party: Sarah Conner) | 90 FR 20463, May 14, 2025 | June 25, 2025.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in section 2 of the ESA.

Dated: July 23, 2025.
Shannon Bettridge,
Chief, Marine Mammal and Sea Turtle Conservation Division, Office of Protected Resources, National Marine Fisheries Service.

[FR Doc. 2025-14185 Filed 7-25-25; 8:45 am]

BILLING CODE 3510-22-P